DEPARTMENT OF THE INTERIOR

Bureau of Land Management

[Docket No. AZ-910-0777-XP-241A]

State of Arizona Resource Advisory Council Meeting

AGENCY: Bureau of Land Management, Interior.

ACTION: Notice of Arizona Resource Advisory Council Meeting.

SUMMARY: In accordance with the Federal Land Policy and Management Act of 1976 and the Federal Advisory Committee Act of 1972, the U.S. Department of the Interior, Bureau of Land Management (BLM), Arizona Resource Advisory Council (RAC), will meet on March 6, 2008, in Phoenix, Arizona, at the BLM National Training Center located at 9828 North 31st Avenue in Phoenix from 8 a.m. and conclude at 4:30 p.m. Morning agenda items include: Review of the December 6, 2007, meeting minutes for RAC and Recreation Resource Advisory Council (RRAC) business; BLM State Director's update on statewide issues; presentations on BLM Route Evaluation and Designation Process; Healthy Lands Initiative; and the National Landscape Conservation System; Discussion on the 2008 RAC Annual Work Plan; RAC questions on BLM Field Managers Rangeland Resource Team proposals; and, reports by RAC working groups. A public comment period will be provided at 11:30 a.m. on March 6, 2007, for any interested persons who wish to address the Council on BLM programs and business.

Under the Federal Lands Recreation Enhancement Act, the RAC has been designated the RRAC, and has the authority to review all BLM and Forest Services (FS) recreation fee proposals in Arizona. The afternoon meeting agenda on March 6 will include review and discussion of the Recreation Enhancement Act (REA) Working Group Report, REA Work Group meeting schedule and future BLM/FS recreation fee proposals. In addition, the following FS fee proposal will be discussed:

(1) Kentucky Camp Headquarters Building (Coronado National Forest)—The Forest Service is considering a change in permit fees for rental of historic structures at Kentucky Camp. The current fee is $75/night to rent the small restored cabin, which accommodates up to 5 people. The proposed fee increase of $200 will include 2-nights' rental of the cabin and 1-day-use rental of the restored Headquarters building, accommodating up to 50 people. The proposed fees are in line with those charged by the nearest private enterprise offering similar facilities.

After completing their RRAC business, the BLM RAC will provide recommendations to the RAC Designated Federal Official on the fee proposal and discuss future RAC meetings and locations.

DATES: Effective Date: March 6, 2008.

FOR FURTHER INFORMATION CONTACT: Deborah Stevens, Bureau of Land Management, Arizona State Office, One North Central Avenue, Suite 800, Phoenix, Arizona 85004-4427, 602-417-9504.

Helen M. Hankins,
Associate State Director

[FR Doc. 08-550 Filed 2-7-08; 8:45 am]

BILLING CODE 4310-32-M